DEPARTMENT OF TRANSPORTATION

Federal Motor Carrier Safety Administration

Availability of the Updated “Your Rights and Responsibilities When You Move” Pamphlet

AGENCY: Federal Motor Carrier Safety Administration (FMCSA), DOT.

ACTION: Notice.

SUMMARY: FMCSA announces the availability of the 2006 version of the “Your Rights and Responsibilities When You Move” pamphlet (Publication No. FMCSA-ESA-03-006, Revised/Updated April 2006). Only those changes mandated by Subtitle B, sections 4201-4216, of the Safe, Accountable, Flexible, Efficient Transportation Equity Act: A Legacy for Users (SAFETEA-LU) [Pub. L. 109-59, August 10, 2005, 119 Stat. 1751] have been incorporated into this pamphlet. The Agency finds that seeking public comment before publishing changes to this pamphlet is unnecessary and contrary to the public interest. First, FMCSA is only modifying this pamphlet to incorporate requirements of SAFETEA-LU which took effect on August 10, 2005. Second, moving companies are required to provide copies of the pamphlet to household goods shippers. Thus, the pamphlet needs to accurately reflect these statutory changes without further delay.

ADDRESSES: FMCSA's “Your Rights and Responsibilities When You Move” pamphlet will be available—after April 7, 2006—on its Web site at http://www.protectyourmove.gov/consumer/awareness/rights/Rights1.htm. Follow the instructions for downloading this pamphlet.

FOR FURTHER INFORMATION CONTACT: Federal Motor Carrier Safety Administration, Office of Compliance and Enforcement, Commercial Enforcement Division (MC-ECC), (202) 385-2400, 400 Virginia Avenue, SW., Suite 600, Washington, DC 20024. Office hours are from 8:30 a.m. to 5 p.m., e.t., Monday through Friday except Federal holidays.

Issued on: March 31, 2006.
Annette M. Sandberg,
Administrator.

[FR Doc. E6-5048 Filed 4-6-06; 8:45 am]

BILLING CODE 4910-EX-P